DEPARTMENT OF STATE

Bureau of Administration

[Public Notice 4828]

Notice of Availability of Alternative Fueled Vehicle (AFV) Report for Fiscal Year 2003

AGENCY: Department of State.

ACTION: Notice.

SUMMARY: The U.S. Department of State, Bureau of Administration, is issuing this notice in order to comply with the Energy Policy Act of 1992 and 42 U.S.C. 13218(b). The purpose of this notice is to announce the public availability of the Department of State's final Fiscal Year 2003 report at the following Web site: http://www.state.gov/m/a/c8503.htm.

FOR FURTHER INFORMATION CONTACT: Questions regarding AFV reports on the State Department Web site should be addressed to the Domestic Fleet Management and Operations Division (A/OPR/GSM/FMO) [Attn: Chappell Garner], 2201 C Street, NW., (Room B258), Washington, DC 20520, telephone (202) 647-3245.

Dated: September 7, 2004.
Vincent J. Chaverini,
Deputy Assistant Secretary, Office of Operations, Department of State.

[FR Doc. 04-20595 Filed 9-10-04; 8:45 am]

BILLING CODE 4710-24-P